DEPARTMENT OF DEFENSE

Office of the Secretary

Membership of the Office of the Secretary of Defense; Performance Review Board

AGENCY: Department of Defense.

ACTION: Notice.

This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Missile Defense Agency, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATE: October 31, 2005.

FOR FURTHER INFORMATION CONTACT: Sandra Burrell, Executive and Political Personnel Division, Directorate for Personnel and Security, Washington Headquarters Services, Office of the Secretary of Defense, Department of Defense, The Pentagon, (703) 693-8347.

SUPPLEMENTARY INFORMATION: In accordance with 5 U.S.C. 4314(c)(4), the following executives are appointed to the Office of the Secretary of Defense PRB: Specific PRB panel assignments will be made from this group. Executives listed will serve a one-year renewable term, effective October 31, 2005.

Office of the Secretary of Defense

Chairperson

Nancy Spruill

Robert Nemetz

Gail McGinn

Mary George

Cheryl Roby

Joyce France

David Pauling

William Lowry

Paul Hanley

April Stephenson

Paul Koffsky

Claretta Merkey

John Landon

Frank Anderson

Janet Felts

Jeanne Farmer

Eric Coulter

Jeanne Fites

LeAntha Sumpter

Ellen Embrey

Bill Lehr

Timothy Morgan

Jennifer Buck

Ann Reese

Keith Webster

Jim Russell

Bob Skalamara

Ken Handelman

Caryn Hollis

Alan Liotta

Robert Newberry

Tom Lavery

Marilee Fitzgerald

Joseph Angello

Mike Kern

Scott Comes

Jim Bexfield

Anne O'Connor

Kenneth Catlow

Scott Comes

Beth McCormick

Dated: October 25, 2005.
L.M. Bynum,
Alternate OSD Federal Register Liaison Officer, Department of Defense.

[FR Doc. 05-21609 Filed 10-28-05; 8:45am]

BILLING CODE 5001-06-M